DEPARTMENT OF HEALTH AND HUMAN SERVICES

Food and Drug Administration

[Docket No. 93F-0360]

Cognis Corporation; Withdrawal of Food Additive Petition

AGENCY: Food and Drug Administration, HHS.

ACTION: Notice.

SUMMARY: The Food and Drug Administration (FDA) is announcing the withdrawal, without prejudice to a future filing, of a food additive petition (FAP 3B4400) proposing that the food additive regulations be amended to provide for the safe use of pentaerythritol mixed esters of C16-18 fatty acids as a dispersant for titanium dioxide in polyethylene, polypropylene, and polystyrene intended for contact with food.

FOR FURTHER INFORMATION CONTACT: Vivian M. Gilliam, Center for Food Safety and Applied Nutrition (HFS-215), Food and Drug Administration, 200 C St. SW., Washington, DC 20204, 202-418-3094.

SUPPLEMENTARY INFORMATION: In a notice published in the Federal Register of October 29, 1993 (58 FR 58172), FDA announced that a food additive petition (FAP 3B4400) had been filed by Henkel Corporation, 300 Brookside Ave., Ambler, PA 19002-3498. The petition proposed to amend the food additive regulations to provide for the safe use of pentaerythritol mixed esters of C16-18 fatty acids as a dispersant for titanium dioxide in polyethylene, polypropylene, and polystyrene intended for contact with food. Henkel Corporation has since changed its name to Cognis Corporation. Cognis Corporation has now withdrawn the petition without prejudice to a future filing (21 CFR 171.7).

Dated: August 1, 2000.
Alan M. Rulis,
Director, Office of Premarket Approval, Center for Food Safety and Applied Nutrition.

[FR Doc. 00-21008 Filed 8-17-00; 8:45 am]

BILLING CODE 4160-01-F